NATIONAL COUNCIL ON DISABILITY

Sunshine Act Meetings

TIME AND DATE: The Members of the National Council on Disability (NCD) will hold a quarterly business meeting on Thursday, May 12, 2022, 12 p.m.-4 p.m., Eastern Standard Time (EST).

PLACE: This meeting will occur via Zoom videoconference. Registration is not required. Interested parties are encouraged to join the meeting in an attendee status by Zoom Desktop Client, Mobile App, or Telephone to dial-in. Updated information is available on NCD's event page at https://ncd.gov/events/2022/upcoming-council-meeting. To join the Zoom webinar, please use the following URL: https://us06web.zoom.us/j/89504687598?pwd=REtQWGNiZ1ZBTW1zREk2cUd2MkdYdz09 or enter Webinar ID: 895 0468 7598 in the Zoom app. The Passcode is: 343173.

To join the Council Meeting by telephone, dial one of the preferred numbers listed. The following numbers are (for higher quality, dial a number based on your current location): (669) 900-6833; (408) 638-0968; (312) 626-6799; (346) 248-7799; (253) 215-8782; (646) 876-9923; or (301) 715-8592. You will be prompted to enter the meeting ID 895 0468 7598 and passcode 343173. International numbers are also available: https://us06web.zoom.us/u/kU5ELNoTI.

In the event of audio disruption or failure, attendees can follow the meeting by accessing the Communication Access Realtime Translation (CART) link provided. CART is text-only translation that occurs real time during the meeting and is not an exact transcript.

MATTERS TO BE CONSIDERED: Following welcome remarks and introductions, the Chairman and Executive Committee will provide reports; followed by a presentation on NCD's upcoming Progress Report; administrative policies training for the Council; legislative and public affairs updates; a review of policy proposals and vote; a presentation on chemical and electromagnetic sensitivities; any old or new business; and public comment on impacts of extreme weather events and environmental injustice on people with disabilities, before adjourning.

AGENDA: The times provided below are approximations for when each agenda item is anticipated to be discussed (all times Eastern Daylight Time):

Thursday, May 12, 2022

12-12:05 p.m.—Welcome and Call to Order

12:05-12:15 p.m.—Chairman's Report

12:15-12:30 p.m.—Executive Committee Report

12:30-1 p.m.—Progress Report Presentation, Q&A from Council Members

1-1:30 p.m.—AFO Team Training on Travel Procedure

1:30-1:45 p.m.—Legislative and Public Affairs Report

1:45-2:45 p.m.—Policy Proposal Review, Discussion, Vote

2:45-3:20 p.m.—Presentation from Susan Molloy MA, Disability Policy, Arizona, USA; Magda Havas Ph.D., Environmental Toxicologist and EMF researcher, Professor Emerita, Trent University, Ontario Canada; Sheena Symington MA, Director, Electrosensitive Society, Ontario Canada; Elizabeth Kelley MA, Executive Director, Electromagnetic Safety Alliance Inc., Arizona, USA on Chemical and Electromagnetic Sensitivities; Q&A from Members

3:20-3:30 p.m.—Old Business/New Business

3:30-4 p.m.—Public Comment on the Impact of Extreme Weather Events and Environmental Injustice on People with Disabilities

4:00 p.m.—Adjourn

PUBLIC COMMENT: Your participation during the public comment period provides an opportunity for us to hear from you—individuals, businesses, providers, educators, parents and advocates. Your comments are important in bringing to the Council's attention issues and priorities of the disability community. For the May 12 Council meeting, NCD will designate its half-hour of public comment exclusively for receiving information for its upcoming report that examines the impact of extreme weather events and environmental injustice on people with disabilities. In order to develop NCD's recommendations to policymakers, NCD invites you to share your insights in response to the following questions:

1. What are the barriers to accessing federal or state funding after a disaster? What needs to be improved?

2. With the increase of extreme weather events, what are the unique obstacles people with disabilities face in planning, response and recovery from these events?

3. What unforeseen obstacles will the disability community need to address because of the increase of extreme weather events? Recommendations on how those obstacles can be mitigated?

4. What role can the federal government play to mitigate the impact of extreme weather events on people with disabilities?

5. What impact has the lack of environmental justice had on communities, specifically, the prevalence of disability? Can you provide specific instances of the impact to these marginalized communities? (e.g. Territories and American Indian/Alaskan Native lands)

Because of the virtual setting, there will be a hybrid option for submitting public comment. The Council is soliciting public comment by email or via video or audio over Zoom. Emailed public comment submissions will be reviewed during the meeting and delivered to members of the Council at its conclusion. You can also present public comment during the session by clicking the “Hand Raise” button in Zoom and waiting to be called on. If you plan to present over Zoom, please provide advance notice. To provide comments or notice to present public comment, please send an email to PublicComment@ncd.gov with the subject line “Public Comment” and your name, organization, state, and topic of comment included in the body of your email. Submission should be received no later than May 11 to ensure inclusion.

CONTACT PERSON FOR MORE INFORMATION: Nicholas Sabula, Public Affairs Specialist, NCD, 1331 F Street NW, Suite 850, Washington, DC 20004; 202-272-2004 (V), or nsabula@ncd.gov.

ACCOMMODATIONS: An ASL interpreter will be on-camera during the entire meeting, and CART has been arranged for this meeting and will be embedded into the Zoom platform as well as available via streamtext link. The web link to access CART (in English) is: https://www.streamtext.net/player?event=NCD. If you require additional accommodations, please notify Anthony Simpson by sending an email to asimpson.cntr@ncd.gov as soon as possible and no later than 24 hours prior to the meeting.

Due to last-minute confirmations or cancellations, NCD may substitute items without advance public notice.

Dated: April 27, 2022.
Anne C. Sommers McIntosh,
Executive Director.

[FR Doc. 2022-09412 Filed 4-28-22; 11:15 am]

BILLING CODE 8421-02-M